FEDERAL COMMUNICATIONS COMMISSION

Sunshine Act; Deletion of Agenda Item From August 3, 2006, Open Meeting

August 2, 2006.

The following item has been deleted from the list of Agenda items scheduled for consideration at the Thursday, August 3, 2006, Open Meeting and previously listed in the Commission's Notice of Thursday, July 27, 2006.

1 | Wireline Competition | Title: United Power Line Council's Petition for Declaratory Ruling Regarding the Classification of Broadband over Power Line Internet Access Service as an Information Service (WC Docket No. 06-10).
|  | Summary: The Commission will consider a Memorandum Opinion and Order concerning the classification of broadband over power line Internet access service.

Federal Communications Commission.
Marlene H. Dortch,
Secretary.

[FR Doc. 06-6757 Filed 8-3-06; 12:40 pm]

BILLING CODE 6712-01-P